DEPARTMENT OF COMMERCE

National Oceanic and Atmospheric Administration

[RTID 0648-XA027]

North Pacific Fishery Management Council; Public Meeting

AGENCY: National Marine Fisheries Service (NMFS), National Oceanic and Atmospheric Administration (NOAA), Commerce.

ACTION: Notice of public meeting.

SUMMARY: The North Pacific Fishery Management Council (Council) Scallop Plan Team will meet on February 19, 2020, in Kodiak, AK.

DATES: The meeting will be held on Wednesday, February 19, 2020, from 9 a.m. to 5 p.m. Alaska Standard Time.

ADDRESSES: The meeting will be held at the Alaska Department of Fish and Game Office, 351 Research Ct., Kodiak, AK 99615. Teleconference line is: (907) 271-2896.

Council address: North Pacific Fishery Management Council, 1007 West Third, Suite 400, Anchorage, AK 99501-2252; telephone: (907) 271-2809.

FOR FURTHER INFORMATION CONTACT: Jim Armstrong, Council staff; telephone: (907) 271-2809.

SUPPLEMENTARY INFORMATION:

Agenda

Wednesday, February 19, 2020

The Council's Scallop Plan Team will update the status of the Statewide Scallop Stocks and Stock Assessment and Fishery Evaluation (SAFE) report, including catch specification recommendations for the 2020 fishing year. Additionally, there will be discussion of survey results and the scallop assessment program, survey plans for 2020, and a review and update of scallop research priorities. The agenda is subject to change and will be posted at https://meetings.npfmc.org/Meeting/Details/1283.

Public Comment

Public comment letters will be accepted and should be submitted either electronically at: https://meetings.npfmc.org/Meeting/Details/1283 or through the mail: North Pacific Fishery Management Council, 1007 West Third, Suite 400, Anchorage, AK 99501-2252.

Special Accommodations

The meeting is physically accessible to people with disabilities. Requests for sign language interpretation or other auxiliary aids should be directed to Shannon Gleason at (907) 271-2809 at least 7 working days prior to the meeting date.

Authority: 16 U.S.C. 1801 et seq.

Dated: January 30, 2020.
Diane M. DeJames-Daly,
Acting Deputy Director, Office of Sustainable Fisheries, National Marine Fisheries Service.

[FR Doc. 2020-02165 Filed 2-4-20; 8:45 am]

BILLING CODE 3510-22-P